FEDERAL COMMUNICATIONS COMMISSION

[OMB 3060-1081; FR ID 328283]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might further reduce the information collection burden for small business concerns with fewer than 25 employees.

The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before March 5, 2026.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might further reduce the information collection burden for small business concerns with fewer than 25 employees.

OMB Control Number: 3060-1081.

Title: Sections 1.2002, 54.201, 54.202, 54.205, Telecommunications Carriers Eligible for Universal Service Support.

Form Number: N/A.

Type of Review: Revision of a currently approved collection.

Respondents: Business or other for-profit.

Number of Respondents and Responses: 24 respondents; 28 responses.

Estimated Time per Response: 1-40 hours.

Obligation to Respond: Required to obtain or retain benefits. Statutory authority is contained in sections 201(b), 214(e)(6), and 303(r) of the Communications Act of 1934, as amended, 47 U.S.C. 201(b), 214(e)(6), 303(r).

Frequency of Response: One-time reporting requirement.

Total Annual Burden: 808 hours.

Total Annual Cost: No cost.

Needs and Uses: Section 254(e) of the Communications Act of 1934, as amended (Act) provides that “only an ETC designated under section 214(e) shall be eligible to receive specific Federal universal service support.”

Section 214(e)(2) of the Act gives state commissions the primary responsibility for performing ETC designations.

Section 214(e)(6) vests the Commission with authority to designate as an ETC “a common carrier providing telephone exchange service and exchange access that is not subject to the jurisdiction of a State commission.”

Section 214(e)(4) provides that state commissions, in a case of a common carrier designated under paragraph (2) of this section, or the Commission, in a case of a common carrier designated under paragraph (6) of this section, “shall permit” an ETC to relinquish its designation “in any area served by more than one” ETC so long as “the remaining [ETCs] ensure that all customers served by the relinquishing carrier will continue to be served,” and the relinquishing carrier provides “sufficient notice to permit the purchase or construction of adequate facilities by any remaining eligible telecommunications carrier.” The ETC must provide advance notice to the state commission or the Commission.

The Commission's rules for ETC designation require the collection of information specified below, except where the Commission has waived information collection requirements when enforcing them would not serve the public interest.

On October 20, 2023, the Commission adopted the Connect America Fund et al., WC Docket No. 10-90 et al. WT Docket No. 10-208, Notice of Proposed Rulemaking and Report and Order, FCC 23-87 (Oct. 20, 2023) (Administrative Order). In the Administrative Order, the Commission modified, in relevant part, section 205 of the Commission's rules, to require an ETC that intends to relinquish its ETC designation to provide: (1) advance notice to the state commission and to the Commission of such intention to relinquish, and (2) notice to the Commission of the state authority's decision to permit or deny such relinquishment, within 10 days of its decision. These filings must be submitted regardless of whether the ETC is currently receiving federal support. The Commission identified its statutory authority to impose these requirements through section 254 of the Act and as reasonably ancillary thereto.

The Commission notes that information collections associated with the Lifeline-only ETC designations and relinquishments are reflected in OMB Control No. 3060-0819.

This information collection addresses the burdens associated with these requirements.

Federal Communications Commission.
Marlene Dortch,
Secretary, Office of the Secretary.

[FR Doc. 2026-02100 Filed 2-2-26; 8:45 am]

BILLING CODE 6712-01-P